DEPARTMENT OF DEFENSE

Department of the Navy

Notice of Availability and Virtual Public Meetings for the Draft Environmental Impact Statement for Proposed Land Acquisition at the Washington Navy Yard, Washington, District of Columbia

AGENCY: Department of the Navy (DoN), Department of Defense (DoD).

ACTION: Notice.

SUMMARY: Pursuant to the National Environmental Policy Act (NEPA) of 1969, as implemented by the Council on Environmental Quality Regulations, the DoN prepared and filed with the United States Environmental Protection Agency (U.S. EPA), a Draft Environmental Impact Statement (EIS) that evaluates the potential environmental effects associated with the acquisition of land at the Southeast Federal Center (SEFC), at the Washington Navy Yard (WNY), Washington, DC. The Navy proposes to obtain 6 acres of land on the SEFC (the SEFC E Parcels) to improve the overall Antiterrorism (AT) posture of the WNY. By obtaining the SEFC E Parcels, the Navy would: (1) improve the WNY AT posture by reducing the encroachment threat posed by planned, private development on the SEFC E Parcels; (2) protect mission-critical activities conducted at the WNY from visual surveillance, and acoustic and electronic eavesdropping; and (3) enhance the overall safety of personnel, facilities, and infrastructure at the WNY.

Should the Navy obtain ownership of the SEFC E Parcels, the Navy is considering three alternative uses for the acquired property: construction and operation of a relocated Navy Museum, construction of administrative facilities, or maintaining the status quo (no new development).

DATES: The DoN is initiating a public comment period beginning on October 14, 2022 and extending through December 2, 2022. Comments submitted during the public comment period, including comments on alternatives, information and analysis, and the summary thereof, will become part of the public record, and substantive comments will be considered in the Final EIS. All comments must be postmarked or received electronically by 11:59 p.m. eastern standard time (EST) on December 2, 2022, for consideration in the Final EIS. The Navy will hold two virtual public meetings to receive comments on the Draft EIS. In addition, per section 106 of the National Historic Preservation Act (NHPA) (36 CFR part 800.2(5)(d)), this undertaking has the potential to have effects on historic resources associated with the WNY. The public will be able to submit comments on the analysis pursuant to section 106 of the NHPA.

The meetings will be held:

• November 15, 2022, 6 p.m. to 7 p.m.

• November 16, 2022, 1 p.m. to 2 p.m.

ADDRESSES: Information on how to participate in the virtual public meetings is available on the Navy project website at: https://ndw.cnic.navy.mil/WNY-Land-Acquisition/1/.

Notices of the virtual public meetings will also be published in The Washington Post and through a press release.

The Navy will receive comments on the Draft EIS and pursuant to section 106 of the National Historic Preservation Act:

• Verbally during each of the two virtual public meetings.

• Electronically via email: NAVFACWashNEPA1@navy.mil.

• By mail, postmarked no later than December 2, 2022, to the following address: Naval Facilities Engineering Systems Command Washington, Washington Navy Yard, ATTN: Navy EIS Project Manager, 1314 Harwood Street SE, Washington, DC 20374.

FOR FURTHER INFORMATION CONTACT: Naval Facilities Engineering Systems Command Washington, Washington Navy Yard, ATTN: Nik Tompkins-Flagg, Navy EIS Project Manager, 1314 Harwood Street SE, Washington, DC 20374, 202-685-8437, NAVFACWashNEPA1@navy.mil.

SUPPLEMENTARY INFORMATION: A Notice of Intent to prepare this EIS was published in the Federal Register on February 18, 2022 (Federal Register (FR) Document Number 2022-03632). The WNY continues to be the “Quarterdeck of the Navy” and serves as the Headquarters for Naval District Washington, where it houses numerous support activities for fleet and aviation communities. The purpose of the Proposed Action is to improve the overall WNY AT posture (i.e., increase physical security and antiterrorism mitigation measures), as well as protect mission-critical activities at the WNY from visual surveillance, and acoustic and electronic eavesdropping. The need for the Proposed Action is to protect the WNY from encroachment that would result from proposed private development located adjacent to the northwest perimeter of the WNY.

The DoN is considering two action alternatives that meet the purpose of and need for the proposed action, as well as a no action alternative. The two action alternatives are: Alternative 1, Land Acquisition through Land Exchange, and Alternative 2, Direct Land Acquisition. Both action alternatives have the same three sub-alternatives that address reuse of the acquired property. The three sub-alternatives are: (A) construct and operate a relocated National Museum of the United States Navy; (B) construct and operate Navy administrative facilities; and (C) bring property within the WNY fence line, but leave the parcels in their current underdeveloped state.

Under the No Action Alternative, the Proposed Action would not occur. The Navy would not acquire or reuse the SEFC E Parcels. Instead, the private development on the SEFC E Parcels would proceed as planned. Private development on the SEFC E Parcels has already been approved by local government in accordance with zoning ordinances and is currently scheduled to begin construction as early as 2023.

Under Alternative 1, the Navy would exchange certain underutilized properties within the WNY Southeast Corner with a private developer to obtain acquisition rights and ownership of the approximately 6-acre SEFC E Parcels. GSA would then transfer ownership of the SEFC E parcels to the Navy via a federal-to-federal transfer. In exchange for acquisition rights, the Navy would transfer and/or lease underutilized assets (approximately 15 acres) at the WNY Southeast Corner to the developer. Land exchange of the SEFC E Parcels for the WNY Southeast Corner would require relocation of functions, including the Hazardous Waste Storage Site from the WNY Southeast Corner to other areas on the WNY. This alternative would also include future development on the WNY Southeast Corner by the private developer, and in-kind considerations at the WNY to be provided by the developer.

Under Alternative 2, the Navy would acquire the rights to the SEFC E Parcels from the developer through purchase or condemnation, and would receive the SEFC E Parcels from GSA through a federal-to-federal transfer. No WNY property would transfer to the developer, and no missions or tenants would need to be relocated under this alternative.

In the EIS, the DoN analyzes potential environmental impacts of the alternatives. Additionally, the DoN will conduct all coordination and consultation activities required by the National Historic Preservation Act and other laws, regulations, and Executive Orders determined to be applicable to the project. The DoN could implement mitigation and monitoring measures to avoid or reduce environmental impacts, as determined in cooperation with the appropriate regulatory agencies and consulting parties.

The DoN distributed the Draft EIS to federal agencies, other parties with which the DoN is consulting, and to other stakeholders, in accordance with 40 CFR 1503.1. Further, the DoN provided a press release to the local newspaper and distributed letters to stakeholders and other interested parties. The Draft EIS is also available for electronic viewing or download at: https://ndw.cnic.navy.mil/WNY-Land-Acquisition/1/.

Dated: October 7, 2022.
B.F. Roach,
Commander, Judge Advocate General's Corps, U.S. Navy, Federal Register Liaison Officer.

[FR Doc. 2022-22261 Filed 10-13-22; 8:45 am]

BILLING CODE 3810-FF-P